CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR), titled the Application for the President's Higher Education Community Service Honor Roll, to the Office of Management and Budget (OMB) for review and approval in accordance with the Paperwork Reduction Act of 1995, Public Law 104-13, (44 U.S.C. Chapter 35). Copies of this ICR, with applicable supporting documentation, may be obtained by calling the Corporation, Kevin Michael Days, at (202) 606-6899. Individuals who use a telecommunications device for the deaf (TTY-TDD) may call (202) 606-3472 between 8:30 a.m. and 5 p.m. eastern time, Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on March 30, 2010. This comment period ended June 1, 2010. No public comments were received from this Notice.

Description: The Corporation is seeking approval of the Application for the President's Higher Education Community Service Honor Roll. The President's Higher Education Community Service Honor Roll program is designed to identify and reward exemplary higher education community service programs and practices. This program helps fulfill the Corporation's strategic goals of engaging Americans, particularly millions of college students, in service, and ensuring that all higher education institutions provide, or stimulate the creation of resources to coordinate service, service-learning, and community partnerships. During this fifth year of the Honor Roll program, the application will include a special focus area that will highlight the national service priorities of the Administration and the Edward M. Kennedy Serve America Act, by encouraging higher education institutions' efforts to tackle priorities ranging from increasing high school graduation rates to fostering economic opportunity.

Type of Review: Renewal.

Agency: Corporation for National and Community Service.

Title: Application for the President's Higher Education Community Service Honor Roll.

OMB Number: 3045- 0120.

Agency Number: None.

Affected Public: Degree-granting colleges and universities located in the U.S. and its territories.

Total Respondents: 4,500.

Frequency: Annual.

Average Time per Response: Averages 1 hour.

Estimated Total Burden Hours: 4,500 hours.

Total Burden Cost (capital/startup): None.

Total Burden Cost (operating/maintenance): None.

Dated: June 23, 2010.
Elson Nash,
Associate Director, Learn and Serve America.

[FR Doc. 2010-15693 Filed 6-28-10; 8:45 am]

BILLING CODE 6050-$$-P